DEPARTMENT OF ENERGY

Federal Energy Regulatory Commission

Notice of Effectiveness of Exempt Wholesale Generator Status

January 6, 2011.

| Docket No.
Ashtabula Wind III, LLC | EG11-1-000
Iberdrola Renewables, Inc. | EG11-2-000
Flat Water Wind Farm, LLC | EG11-3-000
Wildorado Wind Two, LLC | EG11-4-000
Sandy Ridge Wind, LLC | EG11-5-000
AES ES Deepwater, LLC | EG11-6-000
Elk City II Wind, LLC | EG11-7-000

Take notice that during the month of December 2010, the status of the above-captioned entities as Exempt Wholesale Generators became effective by operation of the Commission's regulations. 18 CFR 366.7(a).

Kimberly D. Bose,
Secretary.

[FR Doc. 2011-540 Filed 1-12-11; 8:45 am]

BILLING CODE 6717-01-P